DEPARTMENT OF AGRICULTURE

Draft Environmental Assessment for the J. Phil Campbell, Senior, Natural Resource Conservation Center Land Transfer

AGENCY: Agricultural Research Service, USDA.

ACTION: Notice of the Draft Environmental Assessment for the J. Phil Campbell, Senior, Natural Resource Conservation Center Land Transfer.

SUMMARY: In accordance with the National Environmental Policy Act (NEPA) of 1969, as amended, and the Federal Land Policy and Management Act of 1976 (FLPMA), as amended, the United States Department of Agriculture (USDA) has prepared a Draft Environmental Assessment (EA) for the proposed transfer of 1,070 acres of land at the J. Phil Campbell, Senior (JPC), Natural Resource Conservation Center (NRCC) from the USDA Agricultural Research Service (ARS) in Watkinsville, Georgia, to the University of Georgia (UGA) College of Agricultural and Environmental Sciences (CAES). This notice is announcing the opening of a 30-day public comment period.

DATES: Comments must be received on or before August 5, 2013.

ADDRESSES: You may submit comments related to the Proposed JPC-NRCC Land Transfer by any of the following methods: Email: cal.mather@ars.usda.gov, Fax: 309-681-6683. Mail: USDA-ARS-SHEMB, NCAUR, 1815 North University Avenue, Room 2016, Peoria, Ilinois 61604. Copies of the Draft EA for the JPC-NRCC Land Transfer are available for public inspection during normal business hours at the following locations:

• JPC-REC Headquarters, 1420 Experiment Station Road, Watkinsville, Georgia 30677

• Oconee County Public Library, 1080 Experiment Station Road, Watkinsville, Georgia 30677

• Athens-Clarke County Public Library, 2025 Baxter Street, Athens, Georgia 30606

FOR FURTHER INFORMATION CONTACT: Cal Mather, Environmental Protection Specialist, USDA-ARS-SHEMB, NCAUR, 1815 North University Street, Room 2016, Peoria, Illinois 61604; 309-681-6608.

SUPPLEMENTARY INFORMATION: The USDA is proposing to transfer 1,070 acres of land and facilities at the JPC-NRCC from USDA-ARS in Watkinsville, Georgia, to the UGA CAES. As a condition of the transfer, UGA would commit to using the property for agricultural and natural resources research for a period of 25 years, supporting the strategic goals of USDA and establishing a Beginning Farmers and Ranchers Program at the Property. UGA would assume responsibility and maintenance of the constructed facilities and land to be conveyed from USDA. The JPC-NRCC has been in operation as a USDA-ARS research station since 1937, with the mission “to develop and transfer environmentally sustainable and profitable agricultural systems to landowners and managers in order to protect the natural resource base, build accord with non-agricultural sectors, and support healthy rural economies.” The facility was closed under Public Law (Pub. L.) 112-55, Consolidated and Further Continuing Appropriations Act, 2012. In August 2012, a 5-year revocable permit was issued between USDA and the Board of Regents of UGA that allows the CAES to utilize the Property as a Research and Education Center (REC) and conduct a wide range of research, teaching, extension, and demonstration activities. Since August 2012 it has been operated by the CAES as the JPC-REC under this permit. A Memorandum of Understanding was executed on March 25, 2013, that would allow the formal transfer of the Property from USDA to the Board of Regents of the UGA. Under the terms of the Public Law, the Secretary of Agriculture will decide whether to formally transfer the Property from USDA to the UGA or have USDA retain the possession of the Property. If the decision is made to transfer the Property, it will be done with no monetary cost to the University and a Quit Claim Deed will be prepared by the USDA to convey the title/property rights to UGA. The Quit Claim Deed would incorporate any use restrictions identified by the NEPA process, as well as the 25-year use restriction for agricultural and natural resources research as required by Section 732 of the Public Law. Two alternatives are analyzed in the Draft EA, the No Action Alternative and the Proposed Action. The draft EA addresses potential impacts of these alternatives on the natural and human environment.

• Alternative 1—No Action. The USDA would retain possession of the 1,070 acres of land and facilities at the JPC-REC (former JPC-NRCC). USDA would no longer operate and/or maintain the property and current research at the JPC-REC would cease.

• Alternative 2—Proposed Action. The USDA would formerly transfer 1,070 acres of land at the JPC-REC to the Board of Regents of UGA. As a condition of the transfer, UGA would commit to using the Property for agricultural and natural resources research for a period of 25 years, supporting the strategic goals of USDA and establishing a Beginning Farmers and Ranchers Program at the Property. UGA would assume responsibility and maintenance of the constructed facilities and land to be conveyed from USDA.

In addition, one alternative was considered in the Draft EA but eliminated from detailed study. In this alternative, USDA would retain possession of the land and it would be transferred to the General Services Administration for disposal. Since it cannot reasonably be determined who would ultimately take possession of the property and how it would be utilized, it was not analyzed in detail in the EA. The USDA will use and coordinate the NEPA commenting process to satisfy the public involvement process for Section 106 of the National Historic Preservation Act (16 U.S.C. 470(f) as provided for in 36 CFR 800.2(d)(3)). Following the public comment period, comments will be used to prepare the Final EA. The USDA will respond to each substantive comment by making appropriate revisions to the document or by explaining why a comment did not warrant a change. A Notice of Availability of the Final EA will be published in the Federal Register. All comments, including any personal identifying information included in the comment will become a matter of public record. While you can ask us in your comment to withhold your personal identifying information from public review, we cannot guarantee that we will be able to do so.

Dated: June 25, 2013.
Edward B. Knipling,
Administrator, Agricultural Research Service.

[FR Doc. 2013-16209 Filed 7-3-13; 8:45 am]

BILLING CODE 3410-03-P